COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes services from the Procurement List that were furnished by nonprofit agencies employing persons who are blind or have other severe disabilities.

DATES: Date deleted from the Procurement List: March 15, 2020.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

On 1/10/2020, the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Operation of Postal Service Center, Fort Riley, KS

Mandatory Source of Supply: Skookum Educational Programs, Bremerton, WA

Contracting Activity: DEPT OF THE ARMY, W6QM MICC-FT RILEY

Service Type: Janitorial/Custodial

Mandatory for: Department of Veterans Affairs, VA Outpatient Clinic, 104 Alex Lane, Charleston, WV

Mandatory Source of Supply: Goodwill Industries of Kanawha Valley, Charleston, WV

Contracting Activity: VETERANS AFFAIRS, DEPARTMENT OF, 581-HUNTINGTON

Service Type: Administrative Services

Mandatory for: Office of the U.S. Trade Representative, Washington, DC

Mandatory Source of Supply: ServiceSource, Inc., Oakton, VA

Contracting Activity: EXECUTIVE OFFICE OF THE PRESIDENT, EXECUTIVE OFFICE OF THE PRESIDENT

Service Type: Central Facility Management

Mandatory for: Social Security Administration: Trust Fund Building, Chambersburg, PA

Mandatory Source of Supply: Goodwill Services, Inc., Harrisburg, PA

Contracting Activity: GENERAL SERVICES ADMINISTRATION, FPDS AGENCY COORDINATOR

Service Type: Janitorial/Custodial

Mandatory for: National Park Service: Gateway National Recreational Area, Staten Island, NY

Mandatory Source of Supply: Fedcap Rehabilitation Services, Inc., New York, NY

Contracting Activity: GENERAL SERVICES ADMINISTRATION, FPDS AGENCY COORDINATOR

Service Type: Janitorial/Custodial

Mandatory for: Veterans Outreach Center: 954 Penn Avenue, Pittsburgh, PA

Mandatory Source of Supply: ACHIEVA Support, Pittsburgh, PA

Contracting Activity: VETERANS AFFAIRS, DEPARTMENT OF, NAC

Service Type: Cutting and Assembly

Mandatory for: Robins Air Force Base, Robins AFB, GA

Mandatory Source of Supply: Middle Georgia Diversified Industries, Inc., Dublin, GA

Contracting Activity: DEPT OF THE AIR FORCE, FA8501 AFSC PZIO

Service Type: Duplication of Official Use Documents

Mandatory for: Government Printing Office: 710 North Capitol & H Street NW, Washington, DC

Mandatory Source of Supply: Alliance, Inc., Baltimore, MD

Contracting Activity: Government Printing Office

Patricia Briscoe,
Deputy Director, Business Operations (Pricing and Information Management).

[FR Doc. 2020-02981 Filed 2-13-20; 8:45 am]

BILLING CODE 6353-01-P